DEPARTMENT OF TRANSPORTATION

Federal Railroad Administration

[FRA Safety Advisory 2015-02]

Pipeline and Hazardous Materials Safety Administration

[Docket No. PHMSA-2015-0118, Notice No. 15-11]

Hazardous Materials: Information Requirements Related to the Transportation of Trains Carrying Specified Volumes of Flammable Liquids

AGENCY: Federal Railroad Administration (FRA) and Pipeline and Hazardous Materials Safety Administration (PHMSA), DOT.

ACTION: Notice of safety advisory.

SUMMARY: FRA and PHMSA are issuing this notice to remind railroads operating a “high hazard flammable train” (HHFT)—defined as a train comprised of 20 or more loaded tank cars of a Class 3 flammable liquid in a continuous block, or a train with 35 or more loaded tank cars of a Class 3 flammable liquid across the entire train—as well as the offerors of Class 3 flammable liquids transported on such trains, that certain information may be required by PHMSA and/or FRA personnel during the course of an investigation immediately following an accident.

FOR FURTHER INFORMATION CONTACT: Karl Alexy, Staff Director, Hazardous Materials Division, Office of Technical Oversight, FRA, 1200 New Jersey Avenue SE., Washington, DC 20590; (202) 493-6245, or via email: karl.alexy@dot.gov; and Richard Raksnis, Director Field Services, Office of Hazardous Materials Safety, Pipeline and Hazardous Materials Safety Administration, U.S. Department of Transportation, 1200 New Jersey Ave. SE., Washington, DC 20590. Telephone (202) 366-4455 or, via-email: Richard.raksnis@dot.gov.

SUPPLEMENTARY INFORMATION: Due to recent derailments involving HHFTs, FRA and PHMSA have conducted several post-accident investigations and wish to ensure that stakeholders are fully aware of each agency's investigative authority and cooperate with agency personnel conducting such investigations, where time is of the essence in gathering evidence. Therefore, PHMSA and FRA are issuing this Safety Advisory notice to remind railroads operating HHFTs, and offerors of Class 3 flammable liquids being transported aboard those trains, of their obligation to provide PHMSA and FRA, as expeditiously as possible, with information agency personnel need to conduct investigations immediately following an accident or incident.

Federal law authorizes the Secretary of Transportation (Secretary) to investigate rail accidents. Among other things, related to railroad safety generally, the Department can subpoena witness testimony, inspect track, cars, and other equipment, and require (including by subpoena) the production of records and other evidence. 49 U.S.C. 20107, 20902 ¹ FRA's regulations set forth its general accident investigation procedures at 49 CFR 225.31.

¹ The FRA Administrator may exercise this investigative authority pursuant to a delegation from the Secretary. 49 CFR 1.88(c), 1.89(a).

Federal law also authorizes the Secretary to investigate accidents involving hazardous materials, 49 U.S.C. 5121, and in so doing require (including by subpoena) the production of records, inspect packages, and gather other evidence. Where Federal law requires the maintenance of records related to hazardous materials transportation, Section 5121 obligates those responsible for maintaining such records to provide them to DOT personnel during the course of such investigations. PHMSA has promulgated rules at 49 CFR part 109 establishing investigative procedures for that agency under this authority.² The Secretary has also delegated FRA the authority to investigate rail accidents and incidents involving the transportation of hazardous material for compliance with the Federal hazardous materials transportation law (49 U.S.C. 5101 et seq.) and its implementing regulations. See 49 CFR 1.89(j). Stakeholder cooperation with a PHMSA or FRA investigation following an accident is critically important to transportation safety. Thus, PHMSA and FRA issue this joint Safety Advisory to remind stakeholders of their obligations to maintain and make available records concerning hazardous materials transportation in accordance with law and DOT regulations, and to explain that the following information is likely to prove important to PHMSA and FRA personnel during the course of an investigation—and thus should be provided as expeditiously as possible, upon request:

² The PHMSA Administrator may exercise this investigative authority pursuant to a delegation of the Secretary. 49 CFR 1.96 and 1.97.

• Information on the train consist, including the train number, locomotive(s), locomotives as distributed power, end-of-train device information, number and position of tank cars in the train, tank car reporting marks, and the tank car specifications and relevant attributes ³ of the tank cars in the train.

³ Relevant attributes include information related to thermal protection, shell and head thickness, steel specification and grade, head shield, and pressure relief valve setting.

• Waybill (origin and destination) information.

• The Safety Data Sheet(s) (SDS), or any other document used to provide comprehensive emergency response and incident mitigation information.

• Results of any product testing undertaken prior to transportation that was used to properly characterize the Class 3 flammable liquids for transportation (initial testing).

• Results from any analysis of product samples (taken prior to being offered into transportation) from tank car(s) involved in the derailment.

• Date of acceptance as required to be noted on shipping papers under 49 CFR 174.24.

• If a flammable liquid is involved, the type of liquid and the name and location of the company extracting the material.⁴

⁴ For a manufactured flammable liquid, the manufacturer will be identified on the SDS.

• The identification of the company having initial testing performed (sampling and analysis of material) and information on the lab (if external) conducting the analysis.

• Name and location of the company transporting the material from well head to loading facility or terminal.

• Name and location of the company that owns and that operates the terminal or loading facility that loaded the product for rail transportation.

• Name of the Railroad(s) handling the tank car(s) at any time from point of origin to destination and a timeline of handling changes between railroads.

FRA and PHMSA encourage railroad industry members to take actions that are consistent with the preceding discussion and to take other complementary actions to help ensure the safety of the Nation's railroads. FRA and PHMSA may modify this Safety Advisory, issue additional safety advisories, or take other appropriate actions necessary to ensure the highest level of safety on the Nation's railroads, including pursuing other corrective measures under their safety authority.

Issued in Washington, DC on April 17, 2015.
Timothy P. Butters,
Acting Administrator, Pipeline and Hazardous Materials Safety Administration.
Sarah E. Feinberg,
Acting Administrator, Federal Railroad Administration.

[FR Doc. 2015-09437 Filed 4-22-15; 8:45 am]

BILLING CODE 4910-60-P